DEPARTMENT OF HEALTH AND HUMAN SERVICES

Administration for Children and Families

[Program Announcement No. HHS-2004-ACF-ORR-RE-0004 CFDA 93.576]

ORR Announcement for Services to Recently Arrived Refugees

AGENCY: Office of Refugee Resettlement (ORR), Administration for Children and Families, HHS.

ACTION: Modification to the Standing Announcement published in the Federal Register on April 23, 2004 (69 FR 22276). Notice of additional deadline for Priority Area 2—Unanticipated Arrivals, in the Standing Announcement for Services to Recently Arrived Refugees.

SUMMARY: The Office of Refugee Resettlement Standing Announcement for Services to Recently Arrived Refugees, Volume 69, Federal Register page number 22276, April 23, 2004, is hereby modified to reflect an additional deadline for the Priority Area 2—Unanticipated Arrivals for FY 2005. This additional deadline encourages applicants to respond to the needs of newly arriving populations.

DATES: October 8, 2004, is the closing date. Please note that all applications must be postmarked by October 8, 2004. Mailed applications postmarked after the closing date will be classified as late. Due to delays in mail delivery to Federal offices, we encourage applicants to use overnight courier service to ensure prompt delivery and receipt.

Announcement Availability: The program announcement and the application materials are available from Sue Benjamin, Office of Refugee Resettlement (ORR), 370 L'Enfant Promenade, SW., 8th Floor West, Washington, DC 20447 and from the ORR Web site at: http://www.acf.hhs.gov/programs/orr/funding or http://www.acf.hhs.gov/grants/open/HHS-2004-ACF-ORR-RE-0004.html.

Funding Availability: ORR expects to award $1 million in discretionary social service funds.

FOR FURTHER INFORMATION CONTACT: Sue Benjamin, Office of Refugee Resettlement, telephone number 202-401-4851.

Dated: August 11, 2004.
Nguyen Van Hanh,
Director, Office of Refugee Resettlement.

[FR Doc. 04-19174 Filed 8-19-04; 8:45 am]

BILLING CODE 4184-01-P